DEPARTMENT OF TRANSPORTATION

Surface Transportation Board

[STB Finance Docket No. 34173]

Fillmore & Western Freight Service, LLC—Lease and Operation Exemption—Ventura County Transportation Commission

Fillmore & Western Freight Service, LLC (F&W), a noncarrier, has filed a verified notice of exemption under 49 CFR 1150.31 to lease and operate a line of railroad owned by the Ventura County Transportation Commission (VCTC) between approximately milepost 403.2 at Ventura and milepost 435.1 at Rancho Camulos, a total distance of approximately 31.9 miles in Ventura County, CA.¹

¹ F&W states that The Union Pacific Railroad Company currently provides freight service over a portion of the line. Also, an affiliate of F&W presently provides excursion passenger service and specialized rail related services to the motion picture industry over a portion of the line, and provides maintenance on the line under contract with VCTC.

F&W indicates that it intends to consummate the transaction on or soon after the April 10, 2002 effective date of the exemption (7 days after the exemption was filed).²

² F&W certifies that its projected annual revenues will not exceed those that would qualify it as a Class III carrier.

If the verified notice contains false or misleading information, the exemption is void ab initio. Petitions to revoke the exemption under 49 U.S.C. 10502(d) may be filed at any time. The filing of a petition to revoke will not automatically stay the transaction.

An original and 10 copies of all pleadings, referring to STB Finance Docket No. 34173, must be filed with the Surface Transportation Board, Case Control Unit, 1925 K Street, N.W., Washington, DC 20423-0001. In addition, a copy of each pleading must be served on Eric B. Lee, 415 Woodland Road, Syracuse, NY 13219.

Board decisions and notices are available on our website at WWW.STB.DOT.GOV.

Decided: April 25, 2002.
By the Board, David M. Konschnik, Director, Office of Proceedings.
Vernon A. Williams,
Secretary.

[FR Doc. 02-10754 Filed 5-2-02; 8:45 am]

BILLING CODE 4915-00-P